DEPARTMENT OF HEALTH AND HUMAN SERVICES

Health Resources and Services Administration

Agency Information Collection Activities: Proposed Collection: Public Comment Request Information Collection Request Title: Home Visiting Assessment of Implementation Quality Study: Better Addressing Disparities Through Home Visiting

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 3, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Home Visiting Assessment of Implementation Quality Study: Better Addressing Disparities Through Home Visiting, OMB No. 0915-xxxx—NEW.

Abstract: The Maternal, Infant, and Early Childhood Home Visiting (MIECHV) program, authorized by Social Security Act, Title V, § 511 (42 U.S.C. 711) and administered by HRSA in partnership with the Administration for Children and Families, supports voluntary, evidence-based home visiting services during pregnancy and for parents with young children up to kindergarten entry. States, tribal entities, and certain nonprofit organizations are eligible to receive funding from the MIECHV program and have the flexibility to tailor the program to serve the specific needs of their communities. Funding recipients may subaward grant funds to local implementing agencies (LIAs) to provide home visiting services to eligible families in at-risk communities.

HRSA aims to explore how families that experience disparities in outcomes targeted by the MIECHV program experience home visiting services. This study is an initial step in understanding those experiences and will provide a better understanding of how MIECHV-funded home visiting programs currently address disparities and promote equity. Data collection activities include interviews, focus groups, online surveys, program observations, and review of documents and management information systems data.

A 60-day notice was published in the Federal Register on December 5, 2023, vol. 88, No. 84339; pp. 84341-42. HRSA received one response to the request for public comment from a home visiting model developer. The commentor expressed concerns about the estimated burden for focus groups and the request for information from programs and over surveying families, suggesting using previously collected data, and made suggestions for language changes including use of plain language, clarifying instructions, and providing questions in advance. In response to these comments, the burden hours were increased for focus groups, clarifying instructions were added to the LIA Leadership Interview Protocol and edits were made to plain language. The burden estimate was not increased for the information form for LIAs as it did not fall under the definition for public burden. The suggestion of using information already collected from families was not taken as there is not currently existing data of this nature. In addition, Family Focus Group Protocol and Family Case Study Focus Group Protocol have been combined to one form as the protocols were similar.

Need and Proposed Use of the Information: HRSA is seeking additional information about families' experiences within home visiting and strategies the MIECHV program has used to address disparities in their work with families. This information collection is part of the Home Visiting Assessment of Implementation Quality Study, which will examine specific components of the Home Visiting Implementation Quality Conceptual Framework, to inform strategies for implementing high quality home visiting programs. HRSA intends to use this information to identify actionable strategies that MIECHV awardees and LIAs could take to remove potential obstacles to family enrollment in home visiting services and to help address health disparities.

Likely Respondents: MIECHV awardees that are states, nonprofit organizations, and tribes; LIA staff (program directors, coordinators, supervisors, and home visitors); and families that experience greater disparities in maternal and newborn health (families participating in MIECHV-funded home visiting services).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours ¹
Form name | Number of respondents | Number of responses per respondent | Total responses | Average burden per response (in hours) | Total burden hours
Request for Information about LIAs | 56 | 1 | 56 | 0.25 | 14.0
LIA and Family Nomination Form | 70 | 1 | 70 | 2.00 | 140.0
Family Online Survey | 210 | 1 | 210 | 0.33 | 69.3
Family Focus Group Protocol | 64 | 1 | 64 | 1.00 | 64.0
Home Visitor Group Interview Protocol | 10 | 1 | 10 | 1.50 | 15.0
LIA Leadership Interview Protocol | 6 | 1 | 6 | 1.50 | 9.0
Total | 416 |  | 416 |  | 311.3
¹ There may be variation in the number of study participants (e.g., some programs may have fewer home visitors). The total burden hours presented here provide information assuming the maximum number of respondents in each community.

Maria G. Button,
Director, Executive Secretariat.

[FR Doc. 2024-06991 Filed 4-2-24; 8:45 am]

BILLING CODE 4165-15-P